DEPARTMENT OF JUSTICE

Nondiscrimination on the Basis of Sex in Education Programs or Activities Receiving Federal Financial Assistance

AGENCY: Department of Justice (“DOJ”).

ACTION: Notice of Department of Justice Financial Assistance Subject to Title IX of the Education Amendments of 1972, as amended.

SUMMARY: In accordance with Subpart F of the final common rule for the enforcement of Title IX of the Education Amendments of 1972, as amended (“Title IX”), this notice lists federal financial assistance administered by the U.S. DOJ that is covered by Title IX. Title IX prohibits recipients of federal financial assistance from discriminating on the basis of sex in education programs or activities. Subpart F of the Title IX common rule requires each federal agency that awards federal financial assistance to publish in the Federal Register a notice of the federal financial assistance covered by the Title IX regulations within sixty (60) days after the effective date of the final common rule. The final common rule for the enforcement of Title IX was published in the Federal Register by twenty-one (21) federal agencies, including DOJ, on August 30, 2000 (65 FR 52857-52895). DOJ's portion of the final common rule will be codified at 28 CFR Part 54.

SUPPLEMENTARY INFORMATION: Title IX prohibits recipients of federal financial assistance from discriminating on the basis of sex in educational programs or activities. Specifically, the statute states that “[n]o person in the United States shall, on the basis of sex, be excluded from participation in, be denied the benefits of, or be subjected to discrimination under any education program or activity receiving Federal financial assistance,” with specific exceptions for various entities, programs, and activities. 20 U.S.C. 1681(a). Title IX and the Title IX common rule prohibit discrimination on the basis of sex in the operation of, and the provision or denial of benefits by, education programs or activities conducted not only by educational institutions but by other entities as well, including, for example, law enforcement agencies, departments of corrections, and for profit and nonprofit organizations.

List of Federal Financial Assistance Administered by the Department of Justice to Which Title IX Applies

Note: All recipients of federal financial assistance from DOJ are subject to Title IX, but Title IX's anti-discrimination prohibitions are limited to the educational components of the recipient's program or activity, if any.

Failure to list a type of federal assistance below shall not mean, if Title IX is otherwise applicable, that a program or activity is not covered by Title IX.

The following types of federal financial assistance were derived from Appendix A of DOJ's Title VI regulations, 28 CFR 42 Subpart C.

1. Assistance provided by the Office of Justice Programs (OJP), the Bureau of Justice Assistance (BJA), the National Institute of Justice (NIJ), the Bureau of Justice Statistics (BJS), and the Office of Juvenile Justice and Delinquency Prevention (OJJDP), including block, formula, and discretionary grants, victim compensation payments, and victim assistance grants (title I of the Omnibus Crime Control and Safe Streets Act of 1968, 42 U.S.C. 3711-3796, as amended (Public Law 90-351, as added Public Law 98-473); the Juvenile Justice and Delinquency Prevention Act of 1974, 42 U.S.C. 5601-5785, as amended (Public Law 93-415, as amended by Public Law 96-509, Public Law 98-473, and Public Law 102-586); the Victims of Crime Act of 1984, 42 U.S.C. 10601-10608 (Public Law 98-473)).

2. Assistance provided by the Bureau of Prisons (BOP) including technical assistance to State and local governments for improvement of correctional systems; training of law enforcement personnel, and assistance to legal services programs (18 U.S.C. 4042).

3. Assistance provided by the National Institute of Corrections (NIC) including training, grants, and technical assistance to State and local governments, public and private agencies, educational institutions, organizations and individuals, in the area of corrections (18 U.S.C. 4351-4353).

4. Assistance provided by the Drug Enforcement Administration (DEA) including training, joint task forces, information sharing agreements, cooperative agreements, and logistical support, primarily to State and local government agencies (21 U.S.C. 871-890).

5. Assistance provided by the Community Relations Service (CRS) in the form of discretionary grants to public and private agencies under the Cuban-Haitian Entrant Program (title V of the Refugee Education Assistance Act of 1980, Public Law 96-422).

6. Assistance provided by the Federal Bureau of Investigation (FBI) including field training, training through its National Academy, National Crime Information Center, and laboratory facilities, primarily to State and local criminal justice agencies (Omnibus Crime Control and Safe Streets Act of 1968, as amended, 42 U.S.C. 3711-3796).

7. Assistance provided by the Immigration and Naturalization Service (INS) including training and services primarily to State and local governments under the Alien Status Verification Index (ASVI); and citizenship textbooks and training primarily to schools and public and private service agencies (8 U.S.C. 1360, 8 U.S.C. 1457).

8. Assistance provided by the United States Marshals Service through its Cooperative Agreement Program for improvement of State and local correctional facilities (20 U.S.C. 524 note).

9. Assistance provided by the Attorney General through the Equitable Transfer of Forfeited Property Program (Equitable Sharing) primarily to State and local law enforcement agencies (21 U.S.C. 881(e)).

10. Assistance provided by the Department of Justice participating agencies that conduct specialized training through the National Center for State and Local Law Enforcement Training, a component of the Federal Law Enforcement Training Center (FLETC), Glenco, Georgia (Pursuant to Memorandum Agreement with the Department of Treasury).

In addition to the above, further information on DOJ federal financial assistance can be found by consulting the Catalog of Domestic Financial Assistance (CFDA) at http://www.cfda.gov. If using the Internet site, please select “Search the Catalog,” select “Browse the Catalog—By Agency,” and then click on “The Department of Justice.” Catalog information is also available by calling, toll free, 1-800-699-8331 or by writing to: Federal Domestic Assistance Catalog Staff (MVS), General Services Administration, Reporters Building, Room 101, 300 7th Street, SW, Washington, DC 20407.

The following is a partial list of federal financial assistance administered by DOJ as derived from the CFDA. For further information on any of these types of federal financial assistance, please consult the CFDA. Abbreviations following each type of federal financial assistance indicate which Justice Department component administers the relevant federal financial assistance, and are as follows: DEA—Drug Enforcement Administration; OJP—Office of Justice Programs; CRS—Community Relations Services; INS—Immigration and Naturalization Service; FBI—Federal Bureau of Investigation; OJJDP—Office of Juvenile Justice and Delinquency Prevention; BJS—Bureau of Justice Statistics; NIJ—National Institute of Justice; BJA—Bureau of Justice Assistance; CPO—Corrections Program Office.

Law Enforcement Assistance—Narcotics and Dangerous Drugs—Laboratory Analysis (DEA)

Law Enforcement Assistance—Narcotics and Dangerous Drugs Technical Laboratory Publications (DEA)

Law Enforcement Assistance—Narcotics and Dangerous Drugs Training (DEA)

Public Education on Drug Abuse—Information (DEA)

County and Municipal Agency Domestic Preparedness Equipment Support Program (OJP)

State Domestic Preparedness Equipment Support Program (OJP)

Americans With Disabilities Act Technical Assistance Program (DOJ)

Education and Enforcement of the Antidiscrimination Provision of the Immigration and Nationality Act (DOJ)

Community Relations Service (CRS)

Cuban and Haitian Entrant Resettlement Program (INS)

Law Enforcement Assistance—FBI Advanced Police Training (FBI)

Law Enforcement Assistance—FBI Crime Laboratory Support (FBI)

Law Enforcement Assistance—FBI Field Police Training (FBI)

Law Enforcement Assistance—FBI Fingerprint Identification (FBI)

Law Enforcement Assistance—National Crime Information Center (FBI)

Law Enforcement Assistance—Uniform Crime Reports (FBI)

Combined DNA Index System (FBI)

Law Enforcement Assistance—National Instant Criminal Background Check System (FBI)

Citizenship Education and Training (INS)

Juvenile Accountability Incentive Block Grants (OJJDP)

Domestic Violence Victims' Civil Legal Assistance Program (OJP)

Grants to Combat Violent Crimes Against Women on Campuses (OJP)

Juvenile Justice and Delinquency Prevention—Allocation to States (OJJDP)

Juvenile Justice and Delinquency Prevention—Special Emphasis (OJJDP)

National Institute for Juvenile Justice and Delinquency Prevention (OJJDP)

Missing Children's Assistance (OJJDP)

Gang-Free Schools and Communities—Community-Based Gang Intervention (OJJDP)

Victims of Child Abuse (OJJDP)

Title V—Delinquency Prevention Program (OJJDP)

Part E—State Challenge Activities (OJJDP)

State Justice Statistics Program for Statistical Analysis Centers (BJS)

National Criminal History Improvement Program (NCHIP) (BJS)

National Institute of Justice Research, Evaluation, and Development Project Grants (NIJ)

National Institute of Justice Visiting Fellowships (NIJ)

Criminal Justice Research and Development—Graduate Research Fellowships (NIJ)

Corrections and Law Enforcement Family Support (NIJ)

National Institute of Justice Crime Laboratory Improvement Program (NIJ)

National Institute of Justice Domestic Anti-Terrorism Technology Development Program (NIJ)

National Institute of Justice W.E.B. DuBois Fellowship Program (NIJ)

Public Safety Officers' Benefits Program (BJA)

Crime Victim Assistance (OJP)

Crime Victim Compensation (OJP)

Emergency Federal Law Enforcement Assistance (BJA)

Federal Surplus Property Transfer Program (BJA)

Byrne Formula Grant Program (BJA)

Edward Byrne Memorial State and Local Law Enforcement Assistance Discretionary Grants Program (BJA)

Crime Victim Assistance/Discretionary Grants (OJP)

Children's Justice Act Partnerships for Indian Communities (OJP)

Drug Court Discretionary Grant Program (OJP)

Violent Offender Incarceration and Truth in Sentencing Incentive Grants (CPO)

Violence Against Women Discretionary Grants for Indian Tribal Governments (OJP)

Violence Against Women Formula Grants (OJP)

Rural Domestic Violence and Child Victimization Enforcement Grant Program (OJP)

Grants to Encourage Arrest Policies (OJP)

Local Law Enforcement Block Grants Program (BJA)

Residential Substance Abuse Treatment for State Prisoners (CPO)

Executive Office for Weed and Seed (DOJ)

Correctional Grant Program for Indian Tribes (OJP)

Motor Vehicle Theft Protection Act Program (BJA)

State Identification Systems Grant Program (BJA)

Corrections—Training and Staff Development (DOJ)

Corrections—Research and Evaluation and Policy Formulation (DOJ)

Corrections—Technical Assistance/Clearinghouse (DOJ)

State Criminal Alien Assistance Program (BJA)

Bulletproof Vest Partnership Program (BJA)

Tribal Court Assistance Program (BJA)

Planning, Implementing, and Enhancing Strategies in Community Prosecution (BJA)

Regional Information Sharing Systems (BJA)

Closed-Circuit Televising of Child Victims of Abuse (BJA)

National White Collar Crime Center (BJA)

Scams Targeting the Elderly (BJA)

State and Local Anti-Terrorism Training (BJA)

Public Safety Officers' Educational Assistance (BJA)

Public Safety Partnership and Community Policing Grants (DOJ)

Troops to COPS (DOJ)

Police Corps (OJP)

Juvenile Mentoring Program (OJJDP)

Enforcing Underage Drinking Laws Program (OJJDP)

Drug Prevention Program (OJJDP)

Drug-Free Communities Support Program Grants (OJJDP)

Reduction and Prevention of Children's Exposure to Violence (OJJDP)

Tribal Youth Program (OJJDP)

National Evaluation of the Safe Schools/Healthy Students Initiative (OJJDP)

National Incident Based Reporting System (BJS)

(Authority: 20 U.S.C. 1681-1688)

Dated: November 18, 2000.
Bill Lann Lee,
Assistant Attorney General, U.S. Department of Justice.

[FR Doc. 00-30046 Filed 11-24-00; 8:45 am]

BILLING CODE 4410-13-P